DEPARTMENT OF THE INTERIOR

Office of the Secretary

Renewal of the Sport Fishing and Boating Partnership Advisory Council

AGENCY: Office of the Secretary, Interior.

ACTION: Notice of Renewal.

SUMMARY: This notice is published in accordance with section 9a(2) of the Federal Advisory Committee Act. Following consultation with the General Services Administration, the Secretary of the Interior hereby renews the Sport Fishing and Boating Partnership Council (Council) charter for 2 years.

DATES: The Council's charter will be filed under the Act April 14, 2006.

FOR FURTHER INFORMATION CONTACT: Douglas Hobbs, Council Coordinator, Fish and Wildlife Service, (703) 358-1711.

SUPPLEMENTARY INFORMATION: The purpose of the Council is to provide advice to the Secretary of the Interior through the Director of the Fish and Wildlife Service (Service) to help the Department of the Interior (Department) and the Service achieve their goal of increasing public awareness of the importance of aquatic resources and the social and economic benefits of recreational fishing and boating.

The Council will represent the interests of the sport fishing and boating constituencies and industries and will consist of no more than 18 members and up to 16 alternates appointed by the Secretary to assure a balanced, cross-sectional representation of public and private sector organizations. The Council will consist of two ex-officio members: Director, Fish and Wildlife Service, and the President, International Association of Fish and Wildlife Agencies (IAFWA). The 16 remaining members will be representatives selected from among, but not limited to, the following national interest groups: (1) State fish and wildlife resource management agencies (member will be a Director of a coastal State if the President of the IAFWA is from an inland State, or an inland State if the President of the IAFWA is from a coastal State); (2) saltwater and freshwater recreational fishing organizations; (3) recreational boating organizations; (4) recreational fishing and boating industries; (5) recreational fishery resources conservation organizations; (6) aquatic resource outreach and education organizations; and (7) tourism industry. Members will be senior-level representatives for recreational fishing, boating, and aquatic resource conservation and have the ability to represent their designated constituency.

The Council will function solely as an advisory body and in compliance with provisions of the Act (5 U.S.C. Appendix 2). The Certification of renewal is published below.

Certification

I hereby certify that the renewal of the Sport Fishing and Boating Partnership Council is necessary and in the public interest in connection with the performance of duties imposed on the Department of the Interior by those statutory authorities as defined in Federal laws including, but not restricted to, the Federal Aid in Sport Fish Restoration Act (16 U.S.C. 777-777k), Fish and Wildlife Coordination Act (16 U.S.C. 661-667e), and the Fish and Wildlife Act of 1956 (16 U.S.C. 742a-742j) in furtherance of the Secretary of the Interior's statutory responsibilities for administration of the Fish and Wildlife Service's mission to conserve, protect, and enhance fish, wildlife, and plants and their habitats for the continuing benefit of the American people. The Council will assist the Secretary and the Department of the Interior by providing advice on activities to enhance fishery and aquatic resources.

Dated: March 21, 2006.
Gale A. Norton,
Secretary of the Interior.

[FR Doc. E6-4618 Filed 3-29-06; 8:45 am]

BILLING CODE 4310-55-P